DEPARTMENT OF HEALTH AND HUMAN SERVICES

Centers for Disease Control and Prevention

[30Day-22-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Pilot Study for the National Survey of the Mining Population—New—National Institute for Occupational Safety and Health (NIOSH), Centers for Disease Control and Prevention (CDC).

Surveillance of occupational injuries, illnesses, and exposures has been an integral part of the work of the National Institute for Occupational Safety and Health (NIOSH) since its creation by the Occupational Safety and Health Act in 1970. To improve its surveillance capability related to the occupational risks in mining, NIOSH plans to conduct a national survey of mines and mine employees. No national surveys have specifically targeted the mining labor force since the 1986 Mining Industry Population Survey (MIPS). The mining industry has experienced many changes in the last 17 years; consequently, the MIPS data are no longer representative of the current mining industry labor force.

The proposed survey will be based upon a probability sample of mining operations and their employees. The major objectives of the survey will be: (1) To collect basic information about the mining operation; (2) to establish the demographic and occupational characteristics of mine operator employees within each major mining sector (coal, metal, nonmetal, stone, and sand and gravel); and (3) to determine the number and occupational characteristics of independent contractor employees within mines. The sampled mining operations will provide all survey data; individual operator and independent contractor employees will not be directly surveyed. As a result of this survey, surveillance researchers and government agencies such as the Mine Safety and Health Administration (MSHA) will be able to identify groups of miners with a disproportionately high risk of injury or illness. By capturing demographic (e.g., age, gender, race/ethnicity, education level) and occupational characteristics (e.g., job, title, work location, experience in this job title, total mining experience) of the mining workforce, these data will be of use in the customization of interventions such as safety training programs.

This request is for OMB approval of a Pilot Study to evaluate the effectiveness of the survey recruitment materials, questionnaires, and procedures in the acquisition of complete and high quality data from a sample of mining operations. Data captured in the Pilot Study will guide improvements to optimize the performance of the various components of the full-scale national survey. Approximately 40 randomly selected mining operations spanning the five major commodities will be chosen for the Pilot Study. A survey packet will be sent to each sampled mining operation. It is expected that approximately 30 mining operations will be eligible to participate in and will respond to the Pilot Study. A portion of the survey respondents and all non-respondents will be asked a short number of debriefing questions by telephone. The estimated annualized burden for this data collection is 52 hours.

Respondents | Number of respondents | Number of responses per respondent | Average burden per response (in hours)
Mining Operations Participating in Pilot Study | 30 | 1 | 90/60
Mining Operations Responding to Debriefing Questions | 25 | 1 | 15/60

Dated: March 1, 2004.
Alvin Hall,
Director, Management Analysis and Services Office, Centers for Disease Control and Prevention.

[FR Doc. 04-5113 Filed 3-4-04; 8:45 am]

BILLING CODE 4163-18-P